NATIONAL TRANSPORTATION SAFETY BOARD

Sunshine Act Meeting

TIME AND DATE: 9:30 a.m., Tuesday, December 10, 2019.

PLACE: NTSB Conference Center, 429 L'Enfant Plaza SW, Washington, DC 20594.

STATUS: The one item is open to the public.

MATTERS TO BE CONSIDERED:

PMA# Aircraft Accident Report—Inadvertent Activation of the Fuel Shutoff Lever, Subsequent Loss of Engine Power, and Ditching on the East River, Liberty Helicopters Inc., Operating a FlyNYON Doors-off Flight, Airbus Helicopters AS350 B2, N350LH, New York, New York, March 11, 2018.

NEWS MEDIA CONTACT: Telephone: (202) 314-6100. The press and public may enter the NTSB Conference Center one hour prior to the meeting for set up and seating.

Individuals requesting specific accommodations should contact Rochelle McCallister at (202) 314-6305 or by email at Rochelle.McCallister@ntsb.gov by Wednesday, December 4, 2019.

The public may view the meeting via a live or archived webcast by accessing a link under “News & Events” on the NTSB home page at www.ntsb.gov.

Schedule updates, including weather-related cancellations, are also available at www.ntsb.gov.

FOR MORE INFORMATION CONTACT: Candi Bing at (202) 314-6403 or by email at bingc@ntsb.gov.

FOR MEDIA INFORMATION CONTACT: Chris O'Neil by email at chris.oneil@ntsb.gov or at (202) 314-6100.

Authority: 5 U.S.C. 552b

November 18, 2019.
Candi R. Bing,
Federal Register Liaison Officer.

[FR Doc. 2019-25309 Filed 11-18-19; 4:15 pm]

BILLING CODE 7533-01-P